DEPARTMENT OF JUSTICE

Antitrust Division

Notice Pursuant to the National Cooperative Research and Production Act of 1993—Biopharmaceutical Manufacturing Preparedness Consortium

Notice is hereby given that, on January 14, 2025, pursuant to section 6(a) of the National Cooperative Research and Production Act of 1993, 15 U.S.C. 4301 et seq. (“the Act”), Biopharmaceutical Manufacturing Preparedness Consortium (“BioMaP-Consortium”) has filed written notifications simultaneously with the Attorney General and the Federal Trade Commission disclosing changes in its membership. The notifications were filed for the purpose of extending the Act's provisions limiting the recovery of antitrust plaintiffs to actual damages under specified circumstances.

Specifically, Bella Biologics, Inc., Cohoes, NY; Biotech Resources Group LLC, Gaithersburg, MD; CellCo, San Francisco, CA; Mercury Bio, Inc., Santa Fe, NM; Meridian Medical Technologies LLC, Columbia, MD; National Institute for Pharmaceutical Technology and Education, Inc., Minneapolis, MN; Noramco LLC, Wilmington, DE; PATHOLOGY ASSIST-TEMP, INC., Chantilly, VA; Parkdale Advanced Materials, Inc., Gastonia, NC; Purisys LLC, Athens, GA; QYK BRANDS LLC, GARDEN GROVE, CA; Telesis Bio, San Diego, CA; WPT Corp., Beaver Dam, KY; Aldevron LLC, Fargo, ND; Ampulis, Inc., West Chester, PA; BioBlue CMC/Manufacturing Consulting LLC, San Diego, CA; BioNet-Asia Co., Ltd., Bangkok, KINGDOM OF THAILAND; Caplugs, Buffalo, NY; EKF Diagnostics, Inc., Boerne, TX; Epimeron USA, Inc. dba Willow Biosciences, Sunnyvale, CA; Fitesa Simpsonville, Inc., Simpsonville, SC; Hills, Inc., West Melbourne, FL; Hyacinth Proteins, Twin Falls, ID; Premas Biotech Pvt, Ltd., Gurgaon, REPUBLIC OF INDIA; Pyramid Labs, Costa Mesa, CA; Sarfez Pharmaceuticals, Inc., Vienna, VA; Technology Engineering Corp., Montgomery, AL; Valaria Technical Consultants LLC, Westminster, MD; Vedanta Biosciences, Inc., Cambridge, MA; Vega Technology Group LLC, North Canton, OH; Virginia Tech Applied Research Corp., Arlington, VA; Woodstock Sterile Solutions, Woodstock, IL; American Nitrile Operation LLC, Grove City, OH; Azzur Cleanrooms-On Demand LLC, Devens, MA; BlueHalo Labs LLC, Arlington, VA; CENTRIENT PHARMACEUTICALS INTERNATIONAL B.V., Delft, KINGDOM OF THE NETHERLANDS; Cascade Biocatalysts, Inc., Denver, CO; Focus Industries Med LLC, Gold Beach, OR; Genvax Technologies, Inc., Ames, IA; HANS Scientific LLC, Farmington Hills, MI; JLMillan Consulting LLC, Evans, GA; Klim-Loc Medical, Inc., Carbondale, CO; Maxim Biomedical, Inc., Rockville, MD; Q-VANT Biosciences, Inc., Forestdale, MA; Sidra Medical Supply, Inc., Elmont, NY; Simon Williams Pharma Consulting (SWPC) LLC, Gibbsboro, NJ; UNITED STATES ANTIMONY CORPORATION, Thompson Falls, MT; Unicorn Biotechnologies, Inc., Newark, NJ; and Wacker Biotech US, Inc., San Diego, CA, have been added as parties to this venture.

No other changes have been made in either the membership or planned activity of the group research project. Membership in this group research project remains open, and the BioMaP-Consortium intends to file additional written notifications disclosing all changes in membership.

On January 5, 2024, the BioMaP- Consortium filed its original notification pursuant to section 6(a) of the Act. The Department of Justice published a notice in the Federal Register pursuant to section 6(b) of the Act on April 16, 2024 (89 FR 26923).

The last notification was filed with the Department on October 3, 2024. A notice was published in the Federal Register pursuant to section 6(b) of the Act on December 20, 2024 (89 FR 104212).

Suzanne Morris,
Deputy Director Civil Enforcement Operations, Antitrust Division.

[FR Doc. 2025-03217 Filed 2-27-25; 8:45 am]

BILLING CODE P